DEPARTMENT OF COMMERCE

International Trade Administration

[A-570-890]

Wooden Bedroom Furniture From the People's Republic of China: Preliminary Results and Partial Rescission of Antidumping Duty Administrative Review; 2020

AGENCY: Enforcement and Compliance, International Trade Administration, Department of Commerce.

SUMMARY: In response to requests from interested parties, the Department of Commerce (Commerce) is conducting an administrative review of the antidumping duty (AD) order on wooden bedroom furniture (WBF) from the People's Republic of China (China) covering the period of review (POR) January 1, 2020, through December 31, 2020. Commerce has preliminarily determined that the sole mandatory respondent, Hui Zhou Tian Mei Investment Co., Ltd. (aka Hui Zhou Tian Mei Furniture Co., Ltd.) (Tian Mei), is not eligible for a separate rate and is part of the China-wide entity. Commerce is also rescinding this review with respect to all companies under review, except Tian Mei, because all requests to review these companies have been timely withdrawn. We invite interested parties to comment on these preliminary results of review.

DATES: Applicable October 7, 2021.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On March 4, 2021, Commerce initiated an administrative review of the AD order on WBF from China.¹ With the exception of Amini Innovation Corp., which requested a review of Tian Mei, all other parties timely withdrew their review requests in their entirety.² On July 8, 2021, we issued an AD questionnaire to Tian Mei.³ On July 29, 2021, Tian Mei explained that “it cannot adequately provide {Commerce} with the information it has requested.” ⁴

¹ See Initiation of Antidumping and Countervailing Duty Administrative Reviews, 86 FR 12599 (March 4, 2021) (Initiation Notice).

² See American Furniture Manufacturers Committee for Legal Trade and Vaughan-Bassett Furniture Company, Inc.'s Letter, “Wooden Bedroom Furniture from the People's Republic of China: Withdrawal Of Request For Administrative Review,” dated May 25, 2021; see also Guangzhou Maria Yee Furnishings Ltd., PYLA HK LIMITED, and MARIA YEE, INC.'s Letter, “Wooden Bedroom Furniture from the People's Republic of China; Maria Yee's Withdrawal of Request for Review,” dated May 26, 2021.

³ See Commerce's Letter, AD Questionnaire, dated July 8, 2021.

⁴ See Tian Mei's Letter, “Wooden Bedroom Furniture from the People's Republic of China: Response to the Department's July 8, 2021 Questionnaire,” dated July 29, 2021.

Scope of the Order

The product covered by the Order is wooden bedroom furniture, subject to certain exceptions.⁵ Imports of subject merchandise are classified under the Harmonized Tariff Schedule of the United States (HTSUS) subheadings: 9403.50.9042, 9403.50.9045, 9403.50.9080, 9403.90.7005, 9403.90.7080, 9403.50.9041, 9403.60.8081, 9403.20.0018, 9403.90.8041, 7009.92.1000 or 7009.92.5000. Although the HTSUS subheadings are provided for convenience and customs purposes, the written description of the scope of the Order is dispositive.⁶

⁵ See Notice of Amended Final Determination of Sales at Less Than Fair Value and Antidumping Duty Order: Wooden Bedroom Furniture from the People's Republic of China, 70 FR 329 (January 4, 2005) (Order).

⁶ For a complete description of the scope of the Order, see Wooden Bedroom Furniture from the People's Republic of China: Final Results of Antidumping Duty Administrative Review and Final Determination of No Shipments; 2018, 85 FR 7731 (February 11, 2020) and Memorandum, “Decision Memorandum for the Preliminary Results of the Antidumping Duty Administrative Review: Wooden Bedroom Furniture from the People's Republic of China,” dated October 2, 2019.

Methodology

Commerce is conducting this review in accordance with section 751(a)(1)(B) of the Tariff Act of 1930, as amended (the Act), and 19 CFR 351.213.

Separate Rate

In the Initiation Notice, we informed parties that all firms for which a NME review was initiated that wished to qualify for separate rate status must complete, as appropriate, either a separate rate application or a separate rate certification.⁷ We also informed parties that firms that submitted a separate rate application or a separate rate certification that are subsequently selected as mandatory respondents, would not be eligible for separate rate status unless they responded to all parts of the AD questionnaire that Commerce issued to them as mandatory respondents.⁸ After Tian Mei submitted a separate rate application, Commerce selected Tian Mei as the sole mandatory respondent in this review. As noted above, Tian Mei did not respond to Commerce's AD questionnaire. Consistent with Commerce's practice in such situations, as described in the Initiation Notice, and because Tian Mei ceased responding to Commerce's requests for information, Commerce has preliminarily determined that Tian Mei did not establish its eligibility for separate rate status, and is part of the China-wide entity.

⁷ See Initiation Notice, 86 FR at 12600.

⁸ Id. at 12601.

Commerce's policy regarding conditional review of the China-wide entity applies to this administrative review.⁹ Under this policy, the China-wide entity will not be under review unless a party specifically requests, or Commerce self-initiates, a review of the entity. Because no party requested a review of the China-wide entity, the entity is not under review and the weighted-average dumping margin assigned to the China-wide entity is not subject to change as a result of this review.

⁹ See Antidumping Proceedings: Announcement of Change in Department Practice for Respondent Selection in Antidumping Duty Proceedings and Conditional Review of the Nonmarket Economy Entity in NME Antidumping Duty Proceedings, 78 FR 65963 (November 4, 2013).

Partial Rescission of Administrative Review

Pursuant to 19 CFR 351.213(d)(1), Commerce will rescind an administrative review, in whole or in part, if a party that requested a review withdraws its request within 90 days of the date of publication of the notice of initiation of the requested review in the Federal Register. All review requests, except the request to review Tian Mei, were timely withdrawn. Therefore, in accordance with 19 CFR 351.213(d)(1), Commerce is rescinding this review of the AD order on wooden bedroom furniture from China with respect to all of the companies/company groupings listed in the appendix to this notice.

Public Comment

Interested parties are invited to comment on these preliminary results of review. Pursuant to 19 CFR 351.309(c)(1)(ii), interested parties may submit case briefs no later than 30 days after the date of publication of this notice in the Federal Register. Rebuttal briefs, limited to issues raised in the case briefs, may be filed no later than seven days after the deadline for filing case briefs. Parties who submit case or rebuttal briefs are requested to submit with each brief: (1) A statement of the issues, (2) a brief summary of the arguments, and (3) a table of authorities.¹⁰ Executive summaries should be limited to five pages total, including footnotes.¹¹ All submissions, with limited exceptions, must be filed electronically via Enforcement and Compliance's Antidumping and Countervailing Duty Centralized Electronic Service System (ACCESS).¹² Electronically filed documents must be successfully received in their entirety by Commerce's electronic records system, ACCESS, by 5 p.m. Eastern Time (ET) on the due date. Note that Commerce has temporarily modified certain of its requirements for serving documents containing business proprietary information, until further notice.¹³

¹⁰ See 19 CFR 351.309(c)(2) and (d)(2).

¹¹ Id.

¹² See 19 CFR 351.303.

¹³ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice in the Federal Register. Requests for a hearing should contain: (1) The requesting party's name, address, and telephone number; (2) the number of individuals associated with the requesting party that will attend the hearing and whether any of those individuals is a foreign national; and (3) a list of the issues the party intends to discuss at the hearing. Oral arguments at the hearing will be limited to issues raised in the case and rebuttal briefs. If a request for a hearing is made, Commerce will announce the date and time of the hearing. Parties should confirm by telephone the date and time of the hearing two days before the scheduled hearing date.

Unless otherwise extended, Commerce intends to issue the final results of this review, which will include the results of its analysis of issues raised in any case and rebuttal briefs, no later than 120 days after the date these preliminary results of review are published in the Federal Register, pursuant to section 751(a)(3)(A) of the Act.

Assessment Rates

Upon issuance of the final results of this review, Commerce will determine, and U.S. Customs and Border Protection (CBP) shall assess, antidumping duties on all appropriate entries of subject merchandise covered by this review. If we do not alter these preliminary results of review, we intend to instruct CBP to liquidate entries of subject merchandise exported by Tian Mei, which preliminarily did not qualify for separate rate status, at the China-wide rate.

Commerce intends to issue assessment instructions regarding Tian Mei to CBP no earlier than 35 days after the date of publication of the final results of this review in the Federal Register. If a timely summons is filed at the U.S. Court of International Trade, the assessment instructions will direct CBP not to liquidate relevant entries until the time for parties to file a request for a statutory injunction has expired (i.e., within 90 days of publication).

Commerce intends to issue assessment instructions regarding the companies for which it rescinded this review no earlier than 35 days after the date of publication of this notice in the Federal Register. Commerce will instruct CBP to liquidate entries of subject merchandise exported by the companies for which we rescinded the review at the cash deposit rate required at the time of entry.

Cash Deposit Requirements

The following cash deposit requirements will be effective upon publication of the final results of this review in the Federal Register for all shipments of WBF from China entered, or withdrawn from warehouse, for consumption on or after the date of publication of the notice of the final results of this administrative review in the Federal Register, as provided for by section 751(a)(2)(C) of the Act: (1) For previously investigated or reviewed China and non-China exporters that have a separate rate, the cash deposit rate will continue to be the exporter's existing cash deposit rate; (2) for all China exporters of subject merchandise that do not have a separate rate, the cash deposit rate will be the rate China-wide entity rate (i.e., 216.01 percent); and (3) for all non-China exporters of subject merchandise that do not have their own rate, the cash deposit rate will be the rate applicable to the China exporter(s) that supplied that non-China exporter. These deposit requirements, when imposed, shall remain in effect until further notice.

Notification to Importers

This notice also serves as a preliminary reminder to importers of their responsibility under 19 CFR 351.402(f)(2) to file a certificate regarding the reimbursement of antidumping and/or countervailing duties prior to liquidation of the relevant entries during the POR. Failure to comply with this requirement could result in Commerce's presumption that reimbursement of antidumping duties and/or countervailing duties occurred and the subsequent assessment of double antidumping duties.

Notification to Interested Parties

We are issuing and publishing these preliminary results of review in accordance with sections 751(a)(1) and 777(i)(1) of the Act, and 19 CFR 351.213 and 351.221(b)(4).

Dated: October 1, 2021.
Christian Marsh,
Acting Assistant Secretary for Enforcement and Compliance.

Appendix

Companies/Company Groupings for Which the Administrative Review Is Being Rescinded

1. Dongguan Chengcheng Group Co., Ltd.

2. Dongguan Sunrise Furniture Co.

3. Dongguan Sunrise Furniture Co., Ltd.

4. Eurosa (Kunshan) Co., Ltd.

5. Eurosa Furniture Co., (PTE) Ltd.

6. Fairmont Designs

7. Fortune Glory Industrial Ltd. (H.K. Ltd.)

8. Fortune Glory Industrial, Ltd. (HK Ltd.)

9. Golden Lion International Trading Ltd.

10. Golden Well International (HK), Ltd.

11. Guangzhou Maria Yee Furnishings Ltd.

12. Hang Hai Woodcraft's Art Factory

13. Jiangmen Kinwai Furniture Decoration Co., Ltd.

14. Jiangmen Kinwai International Furniture Co., Ltd.

15. Jiangsu Xiangsheng Bedtime Furniture Co., Ltd.

16. Jiangsu Yuexing Furniture Group Co., Ltd.

17. Lianjiang Zongyu Art Products Co., Ltd.

18. Maria Yee, Inc.

19. Meizhou Sunrise Furniture Co., Ltd.

20. Nanhai Jiantai Woodwork Co. Ltd.

21. Nathan International Ltd., Nathan Rattan Factory

22. Perfect Line Furniture Co., Ltd.

23. PuTian JingGong Furniture Co., Ltd.

24. Pyla HK Ltd.

25. Shanghai Sunrise Furniture Co., Ltd.

26. Shenyang Shining Dongxing Furniture Co., Ltd.

27. Shenzhen Forest Furniture Co., Ltd.

28. Shenzhen Jiafa High Grade Furniture Co., Ltd.

29. Shenzhen New Fudu Furniture Co., Ltd.

30. Shenzhen Wonderful Furniture Co., Ltd.

31. Shin Feng Furniture Co., Ltd.

32. Stupendous International Co., Ltd.

33. Sun Fung Co.

34. Sun Fung Wooden Factory

35. Sunforce Furniture (Hui-Yang) Co., Ltd.

36. Superwood Co. Ltd.

37. Taicang Fairmont Designs Furniture Co., Ltd.

38. Taicang Sunrise Wood Industry Co., Ltd.

39. Taicang Sunrise Wood Industry, Co., Ltd.

40. Tradewinds Furniture Ltd. (successor-in-interest to Nanhai Jiantai Woodwork Co.)

41. Wuxi Yushea Furniture Co., Ltd.

42. Xiamen Yongquan Sci-Tech Development Co., Ltd.

43. Yeh Brothers World Trade Inc.

44. Yihua Lifestyle Technology Co., Ltd.

45. Yihua Timber Industry Co., Ltd. (a.k.a. Guangdong Yihua Timber Industry Co., Ltd.)

46. Zhangjiagang Daye Hotel Furniture Co. Ltd.

47. Zhangzhou Guohui Industrial & Trade Co. Ltd.

48. Zhangzhou XYM Furniture Product Co., Ltd.

49. Zhejiang Tianyi Scientific & Educational Equipment Co., Ltd.

50. Zhongshan Fookyik Furniture Co., Ltd.

51. Zhongshan Golden King Furniture Industrial Co., Ltd.

52. Zhoushan For-Strong Wood Co., Ltd.

[FR Doc. 2021-21959 Filed 10-6-21; 8:45 am]

BILLING CODE 3510-DS-P